DEPARTMENT OF LABOR

Occupational Safety and Health Administration

[Docket No. GE2003-1, GE2003-2]

Draft Ergonomics for the Prevention of Musculoskeletal Disorders: Guidelines for Retail Grocery Stores; Draft Ergonomics for the Prevention of Musculoskeletal Disorders: Guidelines for Poultry Processing

AGENCY: Occupational Safety and Health Administration (OSHA), Labor.

ACTION: Notice of rescheduling and postponement of public meetings.

SUMMARY: OSHA is rescheduling a public stakeholder meeting on the draft Ergonomics for the Prevention of Musculoskeletal Disorders: Guidelines for Retail Grocery Stores (draft grocery guidelines) for October 2, 2003. OSHA is also postponing the public stakeholder meeting on the draft Ergonomics for the Prevention of Musculoskeletal Disorders: Guidelines for Poultry Processing (draft poultry processing guidelines), which had been scheduled for October 2, 2003, and will reschedule it in the near future.

DATES: OSHA will hold a half-day public stakeholder meeting on its draft grocery guidelines from 8:30 a.m. to 12:30 p.m., Thursday, October 2, 2003.

ADDRESSES: Stakeholder meeting: The public stakeholder meeting on the draft grocery guidelines will be held at the Washington Court Hotel, 525 New Jersey Avenue, NW., Washington, DC 20001; telephone (202) 628-2100.

Obtaining Copies of the Draft Guidelines: You can download the draft grocery and poultry guidelines from OSHA's Web page on the Internet at http://www.osha.gov. Printed copies of the draft grocery and poultry guidelines are available from OSHA, Office of Publications, U.S. Department of Labor, Room N-3101, 200 Constitution Avenue, NW., Washington, DC 20210, or by telephone at (800) 321-OSHA (6742). You also may fax your request for copies of the draft guidelines to (202) 693-2498.

FOR FURTHER INFORMATION CONTACT: Steven F. Witt, OSHA, Directorate of Standards and Guidance, U.S. Department of Labor, Room N-3718, 200 Constitution Avenue, NW., Washington, DC 20210; telephone (202) 693-1950.

SUPPLEMENTARY INFORMATION:

Draft Grocery Guidelines

OSHA will hold a public stakeholder meeting on its draft grocery guidelines from 8:30 a.m. to 12:30 p.m., Thursday, October 2, 2003, at the Washington Court Hotel, 525 New Jersey Avenue, NW., Washington, DC 20001. The stakeholder meeting, originally set for October 18, 2003, had to be rescheduled because of the emergency closing of Federal government offices due to Hurricane Isabel.

Draft Poultry Processing Guidelines

OSHA is postponing the October 2, 2003, public stakeholder meeting on its draft poultry processing guidelines. OSHA will announce the time and location of the rescheduled meeting in the Federal Register in the near future.

This notice was prepared under the direction of John L. Henshaw, Assistant Secretary for Occupational Safety and Health. It is issued under sections 4 and 8 of the Occupational Safety and Health Act of 1970 (29 U.S.C. 653, 657).

Issued at Washington, DC, this 26 day of September, 2003.
John L. Henshaw,
Assistant Secretary of Labor.

[FR Doc. 03-24931 Filed 9-30-03; 8:45 am]

BILLING CODE 4510-26-M